DEPARTMENT OF HEALTH AND HUMAN SERVICES

Centers for Disease Control and Prevention

[Docket No. CDC-2020-0047]

Healthcare Infection Control Practices Advisory Committee (HICPAC); Cancellation of Meeting

Notice is hereby given of a change in the meeting of the Healthcare Infection Control Practices Advisory Committee (HICPAC); [Docket No. CDC-2020-0047]; May 15, 2020, 3:00 p.m. to 4:30 p.m., EDT, which was published in the Federal Register on April 30, 2020, Volume 85, Number 84, pages 23965-23966.

This meeting is being canceled in its entirety.

FOR FURTHER INFORMATION CONTACT: Koo-Whang Chung, M.P.H., HICPAC, Division of Healthcare Quality Promotion, NCEZID, CDC, 1600 Clifton Road NE, MS H16-3, Atlanta, Georgia 30329-4027; Telephone: 404-639-4000; Email: hicpac@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Dated: May 11, 2020.
Kalwant Smagh,
Director, Strategic Business Initiatives Unit, Office of the Chief Operating Officer, Centers for Disease Control and Prevention.

[FR Doc. 2020-10417 Filed 5-14-20; 8:45 am]

BILLING CODE 4163-18-P